DEPARTMENT OF DEFENSE

Department of the Navy

[Docket ID: USN-2023-HQ-0016]

Proposed Collection; Comment Request

AGENCY: Department of the Navy, Department of Defense (DoD).

ACTION: 60-Day information collection notice.

SUMMARY: In compliance with the Paperwork Reduction Act of 1995, the Department of the Navy announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 20, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Navy Survey Program Office, 701 S Courthouse Road Room, Arlington, VA 22204, ATTN: Dr. Richard Linton, or call 703-604-6058.

SUPPLEMENTARY INFORMATION:

Title; Associated Form; and OMB Number: Navy Health of the Force Survey Program; OMB Control Number: 0703-HOFG.

Needs and Uses: The Navy Health of the Force (HoF) Surveys are strategic level engagement survey initiatives designed to assess climate and culture across the entire Department of the Navy enterprise. When deployed, the Health of the Force Survey is tailored to the unique population (Active Duty Navy, Reserve Navy, Active Duty Marine Corps, and Navy civilians) being surveyed, but includes a core set of questions and metrics that support comparisons across the Navy and provide a means for evaluating changes in culture and climate over time. While there is some comparability with other DoD survey initiatives, the HoF Survey program is unique in its ability to support Service-level and DON-level assessments of culture and climate, as well as comparisons across different segments of the DON enterprise. The DON is seeking a Generic Clearance for the HoF surveys as each one features a common set of core questions, utilizes similar statistical and analytical methods, and supports the same goal of assessing climate and culture across the DON enterprise.

Affected Public: Individuals or households.

Annual Burden Hours: 6,667.

Number of Respondents: 20,000.

Responses per Respondent: 1.

Annual Responses: 20,000.

Average Burden per Response: 20 minutes.

Frequency: Annually.

Dated: August 16, 2023.
Natalie M. Ragland,
Alternate OSD Federal Register Liaison Officer, Department of Defense.

[FR Doc. 2023-17880 Filed 8-18-23; 8:45 am]

BILLING CODE 5001-06-P